DEPARTMENT OF COMMERCE

International Trade Administration

[A-583-815]

Certain Welded Stainless Steel Pipe From Taiwan; Notice of Amended Final Results of Antidumping Duty Administrative Review Pursuant to Final Court Decision

AGENCY: Import Administration, International Trade Administration, Department of Commerce.

ACTION: Notice of amended final results of antidumping duty administrative review pursuant to final court decisions.

EFFECTIVE DATE: June 13, 2003.

FOR FURTHER INFORMATION CONTACT: James Doyle, Import Administration, International Trade Administration, U.S. Department of Commerce, 14th Street and Constitution Avenue NW., Washington, DC 20230; telephone: (202) 482-0159.

SUMMARY: The United States Court of Appeals for the Federal Circuit (“the CAFC”) and the United States Court of International Trade (“CIT”) have affirmed the Department of Commerce's (“the Department”) final remand results affecting final assessment rates for the administrative review of the antidumping duty order of certain welded stainless steel pipe (“steel pipe”) from Taiwan. The period of review (“POR”) is December 1, 1994, through November 30, 1995. As there is now a final and conclusive court decision in this case, we are amending our final results of review and we will instruct the U.S. Bureau of Customs and Border Protection (“Customs Service”) to liquidate entries subject to this review.

SUPPLEMENTARY INFORMATION:

Background

On July 14, 1997, the Department published its final results in the third administrative review of steel pipe from Taiwan. See Final Results of Antidumping Administrative Review; Certain Welded Stainless Steel Pipe From Taiwan, 62 FR 37543 (July 14, 1997) (“Final Results”). The review covered one manufacturer/exporter of the subject merchandise, Ta Chen Stainless Steel Pipe Ltd. (“Ta Chen”). Ta Chen challenged certain aspects of the Department's Final Results. On October 28, 1999, the CIT remanded the Final Results to the Department on two issues: (1) To give a Ta Chen an opportunity to submit information on Sun Stainless, Inc.'s (“Sun”) U.S. sales; and (2) to give Ta Chen an opportunity to submit evidence on any sales to Company C that were made during the POR and on which commissions were paid to Anderson Alloys (“Anderson”). See Ta Chen Stainless Steel Pipe, Ltd. v. United States. NO. 97-08-01344 1999 Ct. Int's Trade LEXIS 110 (CIT 1999). On February 25, 2000, we provided the CIT with our final results of redetermination pursuant to court remand. See Final Results of Redetermination Pursuant to Court Remand: Ta Chen Stainless Steel Pipe, Ltd. v. United States, Court No. 97-08-01344 (“Remand Results”). In the remand redetermination the Department determined: (1) An adverse inference was appropriate for the Sun sales, and assigned the highest calculated margin calculated in the final remand results to Ta Chen's sales to Sun; and (2) not to apply our facts available methodology to the Anderson sales based on Ta Chen's statement that it paid no commissions to Anderson on Company C sales. Upon review, the CIT sustained our Remand Results. See Ta Chen Stainless Steel Pipe, Inc. v. United States. No. 97-08-01344, Slip Op. 2000-107 (CIT 2000). Ta Chen appealed the CIT's judgment with respect to the application of adverse facts available to Ta Chen's sales to Sun. On August 1, 2002, the CAFC affirmed the CIT's decision. See Ta Chen Stainless Steel Pipe, Inc. v. United States, 298 F.3d 1330 (Fed. Cir. 2002).

On January 6, 2003, Ta Chen submitted an application to the Chief Justice of the U.S. Supreme Court for an extension of time to file a petition for a writ of certiorari. The Chief Justice extended the time to file until the requested new deadline of January 18, 2003. Because the deadline occurred on Saturday, Ta Chen filed the petition for writ of certiorari January 21, 2003. On February 28, 2003, an order was given extending the response time to file comments responding to the petition until April 7, 2003. On April 7, 2003, Ta Chen filed an opposition brief. On May 29, 2003, the Supreme Court denied the petition filed by Ta Chen.

There is a final and conclusive court decision in this case. We are amending our final results of review for the period December 1, 1994 through November 30, 1995, and we will instruct the Customs Service to liquidate entries subject to this review.

The revised weighted-average percentage margin is as follows:

Manufacturer/exporter | Margin (percent)
Ta Chen | 2.60

Accordingly, the Department will determine, and the Customs Service will assess, antidumping duties on all appropriate entries of subject merchandise in accordance with these amended final results. For assessment purposes, we have calculated importer-specific duty assessment rates on the ratio of the total amount of antidumping duties calculated for the examined sales to the total value of sales examined for such importer. The Department will issue appraisement instructions to the Customs Service after publication of this amended final results of review.

This notice is published in accordance with section 751(a)(1) of the Tariff Act (19 U.S.C. 1675(1)) and 19 CFR 351.211.

Dated: June 6, 2003.
Joseph A. Spetrini,
Acting Assistant Secretary for Import Administration.

[FR Doc. 03-14982 Filed 6-12-03; 8:45 am]

BILLING CODE 3510-25-M